DEPARTMENT OF THE INTERIOR

National Park Service

Notice of Intent to Repatriate a Cultural Item in the Possession of the Maxwell Museum of Anthropology, University of New Mexico, Albuquerque, NM

AGENCY: National Park Service, Interior.

ACTION: Notice.

Notice is hereby given in accordance with provisions of the Native American Graves Protection and Repatriation Act (NAGPRA), 43 CFR 10.10 (a)(3), of the intent to repatriate a cultural item in the possession of the Maxwell Museum of Anthropology, University of New Mexico, Albuquerque, NM, that meets the definition of “sacred object” and “object of cultural patrimony” under Section 2 of the Act.

This notice is published as part of the National Park Service's administrative responsibilities under NAGPRA, 43 CFR 10.2 (c). The determinations within this notice are the sole responsibility of the museum, institution, or Federal agency that has control of the cultural item. The National Park Service is not responsible for the determinations within this notice.

The cultural item is a Na’ at’ oye Jish ceremonial bundle of faunal materials, minerals, leather, and cloth.

In 1967, this cultural item was purchased by the Maxwell Museum of Anthropology, University of New Mexico from Fred Hughes of Kirtland, NM. The museum has no information regarding the circumstances of the collection of this cultural item by Mr. Hughes.

Documentation associated with the Na’ at’ oye Jish ceremonial bundle and information provided by representatives of the Navajo Nation, Arizona, New Mexico & Utah confirm that a relationship of shared group identity exists between the original makers of the ceremonial bundle and the Navajo Nation, Arizona, New Mexico & Utah. Representatives of the Navajo Nation, Arizona, New Mexico & Utah also have indicated that this cultural item is a specific ceremonial object needed by traditional Native American religious leaders for the practice of traditional Native American religions by their present-day adherents. Representatives of the Navajo Nation, Arizona, New Mexico & Utah provided evidence that this cultural item has ongoing historical, traditional, and cultural importance central to the tribe itself, and is of such central importance that it may not be alienated, appropriated, or conveyed, by any individual tribal or organization member.

Based on the above-mentioned information, officials of the Maxwell Museum of Anthropology, University of New Mexico have determined that, pursuant to 43 CFR 10.2 (d)(3), this cultural item is a specific ceremonial object needed by traditional Native American religious leaders for the practice of traditional Native American religions by their present-day adherents. Officials of the Maxwell Museum of Anthropology, University of New Mexico also have determined that, pursuant to 43 CFR 10.2 (d)(4), this cultural item has ongoing historical, traditional, and cultural importance central to the tribe itself, and is of such central importance that it may not be alienated, appropriated, or conveyed, by any individual tribal or organization member. Lastly, officials of the Maxwell Museum of Anthropology, University of New Mexico have determined that, pursuant to 43 CFR 10.2 (e), there is a relationship of shared group identity that can be reasonably traced between this sacred object/object of cultural patrimony and the Navajo Nation, Arizona, New Mexico & Utah.

This notice has been sent to officials of the Navajo Nation, Arizona, New Mexico & Utah. Representatives of any other Indian tribe that believes itself to be culturally affiliated with this sacred object/object of cultural patrimony should contact Dr. Michael A. Lewis, Curator of Archaeology, Maxwell Museum of Anthropology, University of New Mexico, Albuquerque, NM, 87131, telephone (505) 277-1548, facsimile (505) 277-1547, before November 5, 2001. Repatriation of this sacred object/object of cultural patrimony to the Navajo Nation, Arizona, New Mexico & Utah may begin after that date if no additional claimants come forward.

Dated: July 17, 2001.
John Robbins,
Assistant Director, Cultural Resources Stewardship and Partnerships.

[FR Doc. 01-24961 Filed 10-4-01; 8:45 am]

BILLING CODE 4310-70-S